DEPARTMENT OF TRANSPORTATION

Maritime Administration

[Docket Number MARAD-2013-0101]

National Maritime Strategy Symposium: Cargo Opportunities and Sealift Capacity; Correction

AGENCY: Maritime Administration, Department of Transportation.

ACTION: Notice of public meeting; correction.

SUMMARY: The Maritime Administration published a document in the Federal Register of December 27, 2013, concerning notice of the a public meeting, the National Maritime Strategy Symposium: Cargo Opportunities and Sealift Capacity. The document contained an incorrect reference to an internet address.

FOR FURTHER INFORMATION CONTACT: You may contact T. Mitchell Hudson, Jr., (202) 366-9373; or, Christine Gurland, (202) 366-5157.

Correction

In the Federal Register dated December 27, 2013, in FR Doc. 2013-31095, on page 79073, in the second column, lines 8 and 9, correct the “Follow-Up Action by MARAD” caption as follows:

Remove “http://www.marad@dot.gov” and replace it with “http://www.marad.dot.gov.”

* * * * *

Dated: January 6, 2014.
By Order of the Administrator.
Christine Gurland,
Acting Secretary, Maritime Administration.

[FR Doc. 2014-00143 Filed 1-8-14; 8:45 am]

BILLING CODE 4910-81-P